Memorandum of April 10, 2008

Designation of the Committee on Technology of the National Science and Technology Council To Carry Out Certain Requirements of the America COMPETES Act

Memorandum for the Director of the Office of Science and Technology Policy

By the authority vested in me as President of the United States by the Constitution and the laws of the United States of America, including section 1006(e) of the America COMPETES Act (Public Law 110-69) (the “Act”), I hereby designate the Committee on Technology of the National Science and Technology Council to carry out the responsibilities assigned to the Council on Innovation and Competitiveness in section 1006 of the Act.

The Director of the Office of Science and Technology Policy is authorized and directed to publish this memorandum in the Federal Register.

THE WHITE HOUSE,

Washington, April 10, 2008.

[FR Doc. 08-1138

Filed 4-14-08; 8:52 am]

Billing code 3170-W8-P-M